Proclamation 7947 of October 14, 2005

National Employer Support of the Guard and Reserve Week, 2005

By the President of the United States of America

A Proclamation

In times of crisis, our Nation depends on the courage and determination of the members of our National Guard and Reserve. Across our country, these dedicated citizen-soldiers are answering the call to serve. During National Employer Support of the Guard and Reserve Week, we honor the vital contributions of members of our Guard and Reserve, and we express our gratitude for the support shown to them by their employers.

In every generation, America has turned to the National Guard and Reserve to help respond to natural disasters, secure our homeland, and defend our liberty. Today, National Guard and Reserve personnel are serving on the front lines of freedom in the war on terror, and they have provided vital relief to our citizens affected by Hurricanes Katrina and Rita. Balancing the demands of their families, civilian careers, and military assignments, members of our Guard and Reserve demonstrate personal courage, love of country, and a commitment to duty that inspires all Americans.

Employers play a critical role in helping the men and women of the National Guard and Reserve carry out their mission. In offices, schools, hospitals, and other workplaces, employers provide time off, pay, health-care benefits, and job security to their Guard and Reserve employees. These patriotic efforts allow our men and women in uniform to focus on their military assignments and help strengthen our country. Americans are grateful to these employers for putting the needs of our citizens and our country's safety and security first.

As we continue to fight terrorism and advance peace around the world, Americans stand strongly and proudly behind the men and women of the National Guard and Reserve, and we express our appreciation for the commitment of their employers.

NOW, THEREFORE, I, GEORGE W. BUSH, President of the United States of America, by virtue of the authority vested in me by the Constitution and laws of the United States, do hereby proclaim October 16 through October 22, 2005, as National Employer Support of the Guard and Reserve Week. I encourage all Americans to join me in expressing our thanks to members of our National Guard and Reserve and their civilian employers for their patriotism and sacrifices on behalf of our Nation. I also call upon State and local officials, private organizations, businesses, and all military commanders to observe this week with appropriate ceremonies and activities.

IN WITNESS WHEREOF, I have hereunto set my hand this fourteenth day of October, in the year of our Lord two thousand five, and of the Independence of the United States of America the two hundred and thirtieth.

B

[FR Doc. 05-21029

Filed 10-18-05; 8:45 am]

Billing code 3195-01-P